DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Madison Railroad

[Waiver Petition Docket Number FRA-2010-0158]

The Madison Railroad (MR) of Madison, Indiana, has petitioned for a permanent waiver of compliance for Locomotive Number 2013, from the requirements of the Railroad Safety Glazing Standards, Title 49 CFR part 223, which require certified glazing in all windows and with the Railroad Safety Appliance Standards, Title 49 CFR part 231, where the vertical handholds do not meet current design requirements. In addition, Caboose CMPA 79718, a standard cupola type road caboose that was built in the late 1970's, originally used by MR as their offices. MR desires to utilize this caboose to offer train rides as a community service 4 times a year. MR states all the existing glazing is safety plate glass in very good condition; however, does not comply with the Railroad Safety Glazing Standards, Title 49 CFR part 223, which require certified glazing in all caboose windows.

MR, a division of the City of Madison Port Authority, owns and operates a 25 mile Shortline from Madison to North Vernon, Indiana, approximately 4 times a week at a speed of 10 miles per hour (mph) or less. Approximately twice per month, the railroad operates on 25 miles from North Vernon to Madison to service a customer on the Madison hilltop. The locomotive operates at 10 mph or less, moves one to three loads south, and then makes a return trip with empties. Locomotive Number 2013 would normally be used as a back-up locomotive to Locomotive Number 3634.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0158) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC on December 3, 2010.
Robert C. Lauby,
Deputy Associate Administrator for Regulatory and Legislative Operations.

[FR Doc. 2010-30910 Filed 12-8-10; 8:45 am]

BILLING CODE 4910-06-P